DEPARTMENT OF TRANSPORTATION

Federal Transit Administration

Environmental Impact Statement on Transit Improvements in the Northwest Corridor to Irving/DFW in Dallas, TX

AGENCY: Federal Transit Administration, DOT.

ACTION: Notice of intent to prepare an Environmental Impact Statement (EIS).

SUMMARY: The Federal Transit Administration (FTA) and Dallas Area Rapid Transit (DART) issue this notice to advise interested agencies and the public of their intent to prepare an Environmental Impact Statement (EIS) on the proposed Northwest Corridor-Irving/DFW Line Light Rail Transit (LRT) Project in Dallas and Irving, Texas. The EIS will be prepared in accordance with the National Environmental Policy Act (NEPA), as amended.

The Northwest Corridor-Irving/DFW Line LRT project is the product of the Northwest Corridor Major Investment Study (MIS) completed by DART in early 2000. The MIS identified a Locally Preferred Investment Strategy (LPIS), which included a light rail element with two service lines, the Carrollton Line and the Irving/DFW Line. An EIS evaluating alternatives for the Carrollton Line has been completed, and FTA issued a Record of Decision on this portion of the LPIS on February 5, 2004.

The identified primary travel need for the Northwest Corridor-Irving/DFW Line LRT is to serve the general northwest-southeast travel pattern along the Interstate Highway (IH) 35E/State Highway (SH) 114 corridor from downtown Dallas into North Irving. The LPIS alignment addressed this need with an alignment that generally parallels SH 114 through north Irving before terminating on the north side of SH 114, west of Beltline Road.

After adoption of the LPIS, significant changes in land use and transportation patterns have occurred in the Irving/DFW Corridor. Subsequent analyses by DART for the Irving/DFW Corridor have resulted in a refinement to the LPIS alignment. The refined alignment also addresses the primary travel need with an alignment that runs parallel but south of SH 114 through north Irving. Both of these “Build” alternatives will be fully evaluated in the EIS.

DATES: Comment due date: Written comments on the scope of the EIS, including the alternatives and impacts to be considered, should be sent to John Hoppie, Project Manager by July 1, 2005. See ADDRESSES below.

Scoping Meeting: A Public Scoping Meeting will be held June 29, 2005, at 6:30 p.m. at the University of Dallas—Haggar University Center, 1845 E. Northgate Drive, Irving, Texas. The meeting will be accessible to persons with disabilities. Individuals requiring special assistance to participate fully, such as a translator or sign-language interpreter, should notify DART in advance as indicated under ADDRESSES below.

Interagency Coordination Meeting: DART will invite all federal, state and local agencies with a possible interest in any aspect of the proposed project or its impacts to an interagency coordination meeting and will provide scoping materials to these agencies prior to that meeting. The likely cooperating agencies include the Federal Aviation Administration, the Transportation Security Administration, and North Central Texas Council of Governments (NCTCOG).

ADDRESSES: Written comments should be sent to John Hoppie, Project Manager, Dallas Area Rapid Transit, P.O Box 660163, Dallas, Texas 75266-7213. Telephone: 214-749-2525. Fax: 214-749-3670. E-mail: jhoppie@dart.org.

FOR FURTHER INFORMATION CONTACT: John Sweek, Community Planner, Federal Transit Administration, Region VI; phone: (817) 978-0550.

SUPPLEMENTARY INFORMATION:

I. Scoping

FTA and DART invite interested individuals, organizations, businesses and federal, state and local agencies to participate in determining the scope of the EIS on the Irving/DFW Line, including alternative alignments and station locations. Comments should focus on suggesting alternatives that may be less costly or have fewer environmental impacts while achieving similar transportation objectives, or on identifying any significant social, economic, or environmental issues related to the alternatives under consideration. Specific suggestions on additional alternatives to be examined and issues to be addressed are welcome and will be considered in the development in the final study scope. Scoping comments may be made orally or in writing not later than July 1, 2005. See DATES and ADDRESSES above. Additional information on the EIS process, the alternatives and anticipated impact issues is contained in a “Scoping Information Document”. Copies of the scoping document are available from DART. See DATES and ADDRESSES above. In addition, a project website has been established to provide scoping and other information at http://www.dart.org/nwdfwcorridor.asp.

II. Description of the Study Area and Project Need

The Northwest Corridor Study Area covered in the MIS includes a large part of northwest Dallas County. It extends from downtown Dallas on the south, to SH 121 on the west and north, to east of Marsh Lane and IH-35E on the east. The LPIS adopted on the basis of the MIS includes two rail lines, the Carrollton Line and the Irving/DFW Line. Each of the two rail lines has independent utility in meeting the transportation needs of the study area. The Carrollton Line is advancing toward implementation. The Irving/DFW Line is the subject of this notice. The MIS that resulted in the proposed Irving DFW Line is available online at http://www.dart.org/nwdfwcorridor.asp. The MIS is also available for inspection at DART offices by contacting John Hoppie as indicated in ADDRESSES above.

The Irving/DFW Line and its associated stations provide the opportunity to serve several important regional activity centers. The proposed rail line will also provide numerous opportunities to interconnect the region's transit services, including DART's expanding LRT system, the Trinity Railway Express commuter rail operation, and DART's local and express bus service.

Regional growth has added significantly to the corridor's congestion, especially employment growth in Dallas County, and population growth in northern Dallas, Northeast Tarrant, and Denton Counties. According to findings of the MIS, in 2020 the northwest quadrant of Dallas County will account for 33.6 percent of employment in the entire Dallas-Fort Worth region. While only 6.4 percent of the region's land area, the study area is a large net importer of employees. In 1995, jobs outnumbered population by over 200,000. In 2020, the surplus of jobs over population is expected to grow to more than 336,000. Demographic information will be updated by the North Central Texas Council of Governments (NCTCOG) during the preparation of the EIS.

Land use in the corridor consists of a major concentration of employment near the Las Colinas Urban Center with residential uses occurring west and south of SH 114. Traffic volumes along SH 114 are expected to increase significantly in future years. The EPA designated the nine-county Dallas-Fort Worth region as a moderate non-attainment area for the pollutant ozone under the 8-hour standard in April 2004.

The proposed LRT project is part of multi-modal strategy that also incorporates bus service refinements, highway and HOV lane improvements, TSM and TDM strategies, and bicycle and pedestrian improvements. This strategy was developed during the preparation of the Northwest Corridor MIS completed by DART in early 2000.

III. Alternatives

The transportation alternatives proposed for consideration in this project area include:

No-Build Alternative—The future No-Build Alternative is the transit system that will result in the design year (2030) if the project is not pursued. It consists of all transportation projects included in the adopted NCTCOG plan outside the study corridor, and normal growth in bus service inside the corridor, consistent with exiting transit service policies.

MIS Build Alternative—The original MIS Build Alternative project consisted of an LRT Line of approximately 13.2 miles. The alignment began at the junction with the Carrollton LRT Line north of the Bachman LRT Station and extended southwest on aerial structure over IH-35E and the Elm Fork of the Trinity River parallel to Spur 482. Near the Central Freight property and Texas Stadium parking lots, the alignment turned to the northwest, returned to grade and then elevated to aerial structure to cross over Loop 12, SH 114 and Tom Braniff Drive, landing on the south side of SH 114 and returning to grade. The alignment continued at-grade along the south side of SH 114, and then crossed over both the BNSF RR and SH 114 to enter the Las Colinas Urban Center area. The alignment continued at-grade through the Las Colinas Urban Center in the median of Lake Carolyn Parkway. The alignment then became aerial to cross over Northwest Highway. South of Colwell Boulevard the alignment became at-grade and paralleled Las Colinas Boulevard for a short distance until it turned northward. Adjacent to Royal Lane the alignment turned westerly and crossed over MacArthur Boulevard on aerial structure. Returning to grade, the route continued northwest to the north end of DFW airport with grade separations at SH 161, SH 114, Beltline Road and International Parkway. Seven stations were proposed within the MIS alignment: University of Dallas, South Las Colinas, North Urban Center, Royal Lane, SH 161, Belt Line Road, and DFW North. The University of Dallas station was located south of SH 114. The South Las Colinas Station was proposed in at the south end of the Las Colinas Urban Center, and another station was proposed in the North Urban Center near Northwest Highway. The Royal station was proposed south of Royal before the alignment turned to the west. Another Station was proposed near the junction SH 161 and SH 114. The sixth station was located near Beltline Road and the terminus station was located at the north end of DFW Airport.

Refined Build Alternative—The proposed project for environmental review consists of an LRT Line of approximately 9.5 miles. The LRT alignment begins at its junction with the Carrollton LRT Line north of the Bachman LRT Station and extends southwest on aerial structure over IH-35E and the Elm Fork of the Trinity River parallel to Spur 482. Near the Central Freight property and Texas Stadium parking lots, the alignment turns to the northwest, returns to grade and crosses under Loop 12 on the north side of SH 114. The alignment continues along the north side of SH 114 and crosses under the BNSF RR to enter the Las Colinas Urban Center area. The alignment continues at-grade through the Las Colinas Urban Center in the median of Lake Carolyn Parkway. From the Urban Center, the proposed alignment crosses west over SH 114 and returns to grade north of Hidden Ridge Drive. The alignment turns south, then west with potential grade separations at Hidden Ridge Drive, MacArthur Boulevard and Walnut Hill Lane. Near Walnut Hill Lane the alignment enters into right-of-way that has been preserved for rail access into DFW International Airport. Entering onto airport property, the alignment crosses over SH 114 and Beltline Road before returning grade at the terminus station.

Station Locations: Six stations are proposed within the Irving/DFW corridor: University of Dallas, South Las Colinas, North Urban Center, Hidden Ridge, North Lake College, and Belt Line Road. The University of Dallas station is located between the main lanes and service road of westbound SH 114 south of Tom Braniff Drive. The at-grade South Las Colinas Station is proposed in at the south end of the Las Colinas Urban Center, and another at-grade station is proposed in the North Urban Center near Northwest Highway and SH 114. The Hidden Ridge Drive station is proposed to serve the large corporate complexes in the area west of SH 114. A station is located north of the campus to serve North Lake College and the surrounding area. The terminus station is proposed near Belt Line Road. Alignment and station options will be explored further during scoping.

Segmentation Analysis: Airport access options extending from Belt Line Road to the DFW Central Terminal Area will continue to be studied and evaluated separately by DART, DFW Airport, and others, but are not proposed to be part of this EIS. Airport access by rail was the subject of the DFW International Airport Rail Planning and Implementation Study (NCTCOG, 2002). This study identified several LRT options that could pivot of the proposed terminus of the Refined Build Alternative to serve the Central Terminal Area of DFW Airport.

As DART explored serving the core of DFW Airport as part of this project it became apparent that there were many unresolved issues regarding airport access. As a result there is a growing number of alignment alternatives to serve DFW. Each of these alternatives terminates at one of several proposed locations. Also DFW is planning terminal and taxiway expansions that could potentially impact the DART project.

As a result of a multi-agency coordination meeting that included the North Central Texas Council of Governments, FTA, FAA, DFW Airport, The-T, DCTA and DART it was decided that it would be prudent exclude airport access as part of this EIS. This would allow DART the opportunity to advance the Refined Build Alternative which vital component of DART's Transit System Plan while resolving the numerous complex issues associated with serving the Core area of DFW Airport.

FTA and DART have determined that terminating the project evaluated in this EIS at Belt Line Road is appropriate. As described below, the Refined Build Alternative and a future alignment that would serve the Central Terminus Area of DFW airport have independent utility.

• Refined Build Alternative—The Northwest Corridor to Irving is a 9.5-mile corridor serving the City of Irving. Major destinations along the corridor include: the University of Dallas, the Las Colinas Urban Center (one of the largest employment centers in the region), North Lake Community College and several planned developments. In addition the corridor will serve many residential communities in the City of Irving as well as other commuters who regularly use the State Highway 114 corridor.

• Future Rail Service to the Central Terminus Area of DFW International Airport—Depending on the selected alignment this will be a 3 to 6 mile independent project that would provide rail access to DFW airport from the entire DART LRT System. It will also provide an interface between DART and The-T and DCTA.

Additional Alternatives—Any additional alternatives that emerge during scoping, that reasonably address the project's purpose and need, and that have not been previously evaluated, will be considered.

IV. Probable Effects

The FTA and DART will evaluate all significant environmental, social, and economic impacts of the alternatives analyzed in the EIS. Impact areas to be addressed include: Land use, zoning, and economic development; secondary developments; land acquisition, displacements, and relocation of existing uses; cultural resource impacts including impacts on historical and archaeological resources and parklands/recreational areas; visual and aesthetic qualities; neighborhood compatibility; environmental justice; natural resource impacts including air quality, wetlands, water resources, and wildlife; noise and vibration; hazardous materials; energy; safety and security; utilities; traffic and transportation impacts and airport operations. Potential impacts will be addressed for the long-term operation of each alternative and the short-term construction period. Measures to avoid, minimize, or mitigate all adverse impacts will be identified, evaluated, and adopted as appropriate.

V. FTA Procedures

In accordance with FHWA/FTA guidance on linking the planning and NEPA processes at http://www.environment.fta.dot.gov/streamlining/lpn_guidance.htm, the results of the Northwest Corridor Major Investment Study (DART, 2000), The DFW International Airport Rail Planning and Implementation Study (NCTCOG, 2002), and the Northwest Corridor to Irving/DFW Scoping Information Document (DART, 2005) will be scrutinized during scoping, and incorporated by reference into the EIS, as appropriate. All documents pertaining to this study are available on line at http://www.dart.org/nwdfwcorridor.asp. In addition, information regarding DART's ongoing System Planning effort can be found at http://www.dart.org/transitsystemplan2030.asp.

The MIS and the DFW International Airport Rail Planning and Implementation Study are expected to contribute to the statement of the project's purpose and need, and to the evaluation of transportation systems management alternatives. The impacts of each alternative will be assessed, and, if necessary, the alternative will be revised or additional alternatives will be developed to avoid, minimize, and mitigate any adverse impacts.

In accordance with FTA policy, all Federal environmental laws, regulations, and executive orders affecting project development, including but not limited to the regulations of the Council on Environmental Quality implementing NEPA (40 CFR parts 1500-1508, the joint FHWA/FTA environmental regulations (23 CFR part 771), the project-level conformity requirements of the Clean Air Act, Section 404 of the Clean Water Act, the National Historic Preservation Act, the Endangered Species Act, Section 4(f) of the DOT Act, etc. will be addressed to the maximum extent practicable during the NEPA process.

After its publication, the Draft EIS will be available for public review and comment. One or more public hearings will be held during the Draft EIS public comment period. On the basis of the Draft EIS and comments received, the preferred alternative will be further refined as necessary, and the Final EIS will be prepared.

Issued on: May 5, 2005.
Robert C. Patrick,
FTA Regional Administrator.

[FR Doc. 05-9389 Filed 5-10-05; 8:45 am]

BILLING CODE 4910-57-P